DEPARTMENT OF LABOR

Employment and Training Administration

[NAFTA-4336]

Philips Electronics North America Corp., Philips Display Components Co., Ottawa, Ohio; Dismissal of Application for Reconsideration

Pursuant to 29 CFR 90.18(C) and application for administrative reconsideration was filed with the Director of the Division of Trade Adjustment Assistance for workers at Philips Electronics North America Corporation, Philips Display Components Company, Ottawa, Ohio, The application contained no new substantial information which would bear importantly on the Department's determination. Therefore, dismissal of the application was issued.

NAFTA-4336; Philips Electronics North America Corporation, Philips Display Components Company, Ottawa, Ohio (May 2, 2001)

Signed at Washington, DC this 3rd day of May, 2001.
Edward A. Tomchick,
Director, Division of Trade Adjustment Assistance.

[FR Doc. 01-13000 Filed 5-22-01; 8:45 am]

BILLING CODE 4510-30-M